DEPARTMENT OF VETERANS AFFAIRS

[OMB Control No. 2900-0867]

Agency Information Collection Activity Under OMB Review: Health Eligibility Center (HEC) Income Verification (IV) Forms

AGENCY: Veterans Health Administration, Department of Veterans Affairs.

ACTION: Notice.

SUMMARY: In compliance with the Paperwork Reduction Act (PRA) of 1995, this notice announces that the Veterans Health Administration (VHA), Department of Veterans Affairs, will submit the collection of information abstracted below to the Office of Management and Budget (OMB) for review and comment. The PRA submission describes the nature of the information collection and its expected cost and burden, and it includes the actual data collection instrument.

DATES: Comments and recommendations for the proposed information collection should be sent by July 23, 2025.

ADDRESSES: To submit comments and recommendations for the proposed information collection, please type the following link into your browser: www.reginfo.gov/public/do/PRAMain, select “Currently under Review—Open for Public Comments,” then search the list for the information collection by Title or “OMB Control No. 2900-0867.”

FOR FURTHER INFORMATION CONTACT: VA PRA information: Dorothy Glasgow, 202-461-1084, VAPRA@va.gov.

SUPPLEMENTARY INFORMATION:

Title: Health Eligibility Center (HEC) Income Verification (IV) Forms (VA Forms 10-301, 10-302, 10-303 and 10-304).

OMB Control Number: 2900-0867. https://www.reginfo.gov/public/do/PRASearch.

Type of Review: Revision of a currently approved collection.

Abstract: VHA Directive 1909 provides policy for the VA Health Eligibility Center (HEC) Income Verification (IV) Program under authority of 38 United States Code (U.S.C.) 1722; 38 U.S.C. 5317. Title 38 U.S.C. 1722 established eligibility assessment procedures, based on income levels, for determining whether nonservice-connected (NSC) Veterans and non-compensable zero percent service-connected (SC) Veterans, who have no other special eligibility, are eligible to receive VA health care at no cost. Title 26 U.S.C. 6103(l)(7) of the Internal Revenue Code and 38 U.S.C. 5317 establish authority for VA to verify Veterans' gross household income information against records maintained by the Internal Revenue Service (IRS) and Social Security Administration (SSA) when that information indicates the Veteran is eligible for cost-free VA health care.

This information collection is necessary for HEC's Income Verification Division (IVD) to verify the income of Veterans and spouses. It consists of VA Forms 10-301, 10-302, 10-303 and 10-304. HEC IVD sends Veterans, and their spouses, individual letters and forms to confirm income information reported by IRS and SSA. HEC does not change the Veteran's copay status until information supplied by IRS and SSA has been independently verified, either by the Veteran or through appropriate due process procedures. This collection has been revised by removing VA Form 10-302A because all relevant information can be reported on VA Form 10-302. There is a reduction in the burden hours due to the removal of VA Form 10-302A from the collection.

An agency may not conduct or sponsor, and a person is not required to respond to a collection of information unless it displays a currently valid OMB control number. The Federal Register Notice with a 60-day comment period soliciting comments on this collection of information was published at 90 FR 16596, April 18, 2025.

Affected Public: Individuals or Households.

Estimated Annual Burden: Total hours = 48,338 hours.

10-301—27,948 hours.

10-302—5,679 hours.

10-303—42 hours.

10-304—14,669 hours.

Estimated Average Burden per Respondent:

10-301—30 minutes.

10-302—20 minutes.

10-303—15 minutes.

10-304—20 minutes.

Frequency of Response: Once annually.

Estimated Number of Respondents: Total Respondents = 117,109.

10-301—55,896.

10-302—17,038.

10-303—167.

10-304—44,008.

Authority: 44 U.S.C. 3501 et seq.

Lanea Haynes, (Alt.)
Acting, VA PRA Clearance Officer, Office of Enterprise and Integration, Data Governance Analytics, Department of Veterans Affairs.

[FR Doc. 2025-11450 Filed 6-20-25; 8:45 am]

BILLING CODE 8320-01-P